ENVIRONMENTAL PROTECTION AGENCY

40 CFR Part 52

[IL218-2b; FRL-7661-7]

Approval and Promulgation of Air Quality Implementation Plans; Illinois; Definition of Volatile Organic Material or Volatile Organic Compound

AGENCY: Environmental Protection Agency (EPA).

ACTION: Proposed rule; Extension of the public comment period.

SUMMARY: EPA is extending the public comment period for a proposed rule published on March 23, 2004 (69 FR 13498). In the March 23, 2004 proposed rule, EPA proposed to approve the exemption of a number of nonreactive compounds from Illinois' definition of volatile organic material or volatile organic compound. Two errors were contained in the direct final rule for that action which was published March 23, 2004 (69 FR 13474). In the rules section of this Federal Register, EPA is publishing a final rule which identifies and corrects the errors, extends the public comment period for 30 days from the date of this publication and extends the effective date of the final rule for 60 days from the date of publication. If EPA receives no written adverse comments in response to that direct final rule, EPA plans to take no further action on this proposed rule. If EPA receives written adverse comments, which EPA has not addressed, EPA will withdraw the direct final rule and address all public comments received in a subsequent final rule based on this proposed rule. The EPA will not institute an additional comment period on this document.

DATES: Comments must be received on or before July 28, 2004.

ADDRESSES: Written comments should be addressed to: J. Elmer Bortzer, Chief, Criteria Pollutant Section, Air Programs Branch (AR-18J), United States Environmental Protection Agency, 77 West Jackson Boulevard, Chicago, Illinois 60604. bortzer.jay@epa.gov.

Comments may also be submitted electronically or through hand delivery/courier, please follow the detailed instructions described in part (I)(B)(1)(i) through (iii) of the SUPPLEMENTARY INFORMATION section of the March 23, 2004 (69 FR 13474) direct final rule.

You may inspect copies of the documents relevant to this action during normal business hours at the following location: Criteria Pollutant Section, Air Programs Branch, (AR-18J), U.S. Environmental Protection Agency, Region 5, 77 West Jackson Boulevard, Chicago, Illinois 60604.

Please contact Kathleen D'Agostino at (312) 886-1767 before visiting the Region 5 office.

FOR FURTHER INFORMATION CONTACT: Kathleen D'Agostino, Environmental Engineer, Criteria Pollutant Section, Air Programs Branch (AR-18J), U.S. Environmental Protection Agency, Region 5, 77 West Jackson Boulevard, Chicago, Illinois 60604, (312) 886-1767. dagostino.kathleen@epa.gov.

Dated: May 4, 2004.
Norman Niedergang,
Acting Regional Administrator, Region 5.

[FR Doc. 04-14383 Filed 6-25-04; 8:45 am]

BILLING CODE 6560-50-P